DEPARTMENT OF TRANSPORTATION

Federal Aviation Administration

Approval of Noise Compatibility Program; Southwest Florida International Airport, Fort Myers, FL

AGENCY: Federal Aviation Administration, DOT.

ACTION: Notice.

SUMMARY: The Federal Aviation Administration (FAA) announces its findings on the noise compatibility program submitted by the Lee County Port Authority under the provisions of 49 U.S.C. (the Aviation Safety and Noise Abatement Act, hereinafter referred to as “the Act”) and 14 CFR part 150. These findings are made in recognition of the description of Federal and nonfederal responsibilities in Senate Report No. 96-52 (1980). On February 11, 2005, the FAA determined that the noise exposure maps submitted by the Lee County Port Authority under Part 150 were in compliance with applicable requirements. On May 30, 2006, the FAA approved the Southwest Florida International Airport Noise Compatibility Program. Most of the recommendations of the program were approved.

DATES: Effective Date: The effective date of the FAA's approval of the Southwest Florida International Airport noise compatibility program is May 30, 2006.

FOR FURTHER INFORMATION CONTACT: Ms. Lindy McDowell, Federal Aviation Administration, Orlando Airports District Office, 5950 Hazeltine National Dr., Suite 400, Orlando, Florida 32822, (407) 812-6331, Extension 130. Documents reflecting this FAA action may be reviewed at this same location.

SUPPLEMENTARY INFORMATION: This notice announces that the FAA has given its overall approval to the noise compatibility program for Southwest Florida International Airport, effective May 30, 2006.

Under section 47504 of the Act, an airport operator who has previously submitted a noise exposure map may submit to the FAA a noise compatibility program which sets forth the measures taken or proposed by the airport operator for the reduction of existing noncompatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal Program. The FAA does not substitute its judgment for that of the airport proprietor with respect to which measure should be recommended for action. The FAA's approval or disapproval of FAR Part 150 program recommendations is measured according to the standards expressed in Part 150 and the Act, and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, Florida.

Lee County Port Authority submitted to the FAA on February 8, 2005, the noise exposure maps, descriptions, and other documentation produced during the noise compatibility planning study conducted from October 2002, through May 26, 2006. The Southwest Florida International Airport noise exposure maps were determined by FAA to be in compliance with applicable requirements on February 11, 2005. Notice of this determination was published in the Federal Register on February 11, 2005.

The Southwest Florida International Airport study contains a proposed noise compatibility program comprised of actions designed for phased implementation by airport management and adjacent jurisdictions from May 26, 2006 to the year 2011. It was requested that FAA evaluate and approve this material as a noise compatibility program as described in section 47504 of the Act. The FAA began its review of the program on December 1, 2005, and was required by a provisions of the Act to approve or disapprove the program within 180-days (other than the use of new or modified flight procedures for noise control). Failure to approve or disapprove such program within the 180-day period shall be deemed to be an approval of such program.

The submitted program contained five (5) proposed actions for noise mitigation on and off the airport. The FAA completed its review and determined that the procedural and substantive requirements of the Act and FAR Part 150 have been satisfied. The overall program, therefore, was approved by the FAA effective May 30, 2006.

Outright approval was granted for four of the specific program elements. The measure to modify the existing noise mitigation procedure #6, Runway 6 Departure Procedure was partially disapproved for purposes of FAR Part 150, pending submission of additional information to demonstrate noise benefits. The following describes the approved actions on and off airport:

Operational Measures

1. Continue Existing Operational Noise Mitigation Procedures

This measure is to continue nine of ten existing voluntary operational Noise Mitigation Procedures in place. Benefits of these existing measures are summarized at Table 11-3;

1. Preferential Runway Use Program—Runway 6 is the preferred runway when the wind, weather, and activity permit.

2. Visual Approaches—Turbojet aircraft will normally be vectored to intercept the extended runway centerline seven miles or more from the end of the runway (as activity levels permit). Aircraft on the right downwind leg to Runway 6 or left downwind to Runway 24 will normally be kept above 5000 feet until they are abeam the Airport. Aircraft arriving to Runway 6 and intercepting the extended centerline over the Gulf of Mexico west of Fort Myers Beach should remain above 3,000 feet, if able, to reduce the noise over Fort Myers Beach.

3. “Keep ’em High”—The Airport participates in the “Keep ’em High;” program, and turbojet aircraft are encouraged to keep as high as possible.

4. Properly equipped turbojet aircraft departing Runway 24 are encouraged to use the MAPUL-1 Standard Instrument Departure (SID) that is pending implementation by the FAA.

5. Runway 24 turbojet departures that are not properly equipped to follow the MAPUL-1 SID should request the Alico Three Departure SID.

6. Propeller aircraft should reference AOPA's recommended noise abatement procedures.

7. Turbojet business aircraft should use either the aircraft manufacturer's recommended noise Abatement Procedures, the NBAA's Approach and Landing Procedure (VFR and IFR), or Standard Departure Procedure.

8. Commercial aircraft should follow the Distant Noise Abatement Departure Profile as defined by FAA Advisory Circular AC91-53A.

9. At no time shall engines by run up for test or maintenance purposes between 2300 hours (11 p.m.) and 0600 hours (6 a.m.) without prior approval from the Executive Director or his/her representative.

(NCP, pages 11-2 through 11-3; Exhibits 11-1; and Table 11-3)

FAA Action: Approved as a continuation of the voluntary measures in place, subject to traffic, weather, and airspace safety and efficiency. The FAA approved these measures submitted in previous Part 150 studies (1990, 1995) as demonstrating noise mitigating benefits at the airport. They place aircraft over less noise-sensitive corridors and keep aircraft at higher altitudes over noise-sensitive sites.

2. Modify Existing Noise Mitigation Procedure #6; Runway 6 Departure Procedure

This measure is to modify Existing Operational Noise Mitigation Procedure Number 6 (Runway 6 Departure Procedure). The existing measure 6 states “Runway 6 departures will be held on tower frequency until crossing departure end of runway and will be turned no further west than 350 degrees until they are five miles from the airport.” The NCP recommends that the noise abatement procedure be modified to use RSW 2.7 DME to demarcate the turn for northbound turbojet aircraft departing on Runway 6. The procedure would provide “For turbojet aircraft, no turns before RSW 2.7 DME unless directed by air traffic control”. A lighted sign would also be added to the Runway 6 departure end once FAA determines where the turning point is located. The modified procedure should be included in an updated pilot briefing handout. (NCP, pages 11-2 through 11-3).

FAA Action: Continuation of the voluntary measure in place is approved. Modifications to the procedure are disapproved for purposes of part 150, pending submission of additional information to demonstrate noise benefits. The existing measure, approved by the FAA in earlier Part 150 studies, is intended to move overflights from the school.

3. Purchase and Install Flight Tracking Equipment

In is recommended that a radar flight tracking system be implemented at the Airport to assist the Lee County Port Authority in monitoring the voluntary noise mitigation procedures and to assist in the development of modifications to these procedures that will benefit the citizens living in proximity to the Airport. The system will not be used for mandatory enforcement of the voluntary procedures. It is recommended that the flight tracking system output be used to review all recommended operational procedures during the next part 150 update (NCP, pages 11-8; and Tables 11-1, 11-2, 11-3, and 13-1 through 13-3).

FAA Action: Approved. The flight tracking system must technically be able to interface with the FAA equipment and operations, and be done in compliance with FAA data download requirements. Eligibility for Federal funding and scope of the proposed project will be determined at the time of application. For purposes of aviation safety, this approval does not extend to the use of monitoring equipment for enforcement purposes by in-situ measurement of any pre-set noise thresholds and shall not be used for mandatory enforcement of any voluntary measure.

4. Support the Implementation/Funding for the Implementation of RNAV Procedures

While Table 13-1, Summary of Recommended Measures, describes this as a single measure, the NCP describes this support in two ways. (NCP, pages 11-5 through 11-6; 11-8 and 11-9; Tables 11-1, 11-2, 11-3 and 13-1).

(a) Pages 11-5 and 11-6 suggest a curved RNAV approach to Runway 6, the “MAPUL 1 Instrument Departure Procedure (IDP) in reverse” might be feasible in the future. The NCP states “This approach would also likely provide the most benefit if implemented primarily during nighttime hours. The NCP recommendation is to “continue to monitor the potential for this type of approach and further evaluate it when the technology is more readily available.” The airport sponsor recommends the FAA study advance technology navigational procedures to determine if they can be used for noise mitigation at RSW.

FAA Action: Approved as to sponsor efforts to monitor and evaluate this RNAV approach.

(b) At pages 11-8 and 11-9, the NCP evaluates “Other actions or combinations of actions which would have a beneficial noise control or abatement impact on the public.” The NCP states in relevant part “* * * The MAPUL-1 RNAV procedures is currently pending publication and implementation. This procedure will help reduce the potential for drift as aircraft depart Runway 24 and climb out through the Alico corridor. The MAPUL-1 RNAV procedure will allow properly equipped aircraft to make adjustments to their course as may be required to * * * minimize the impacts on the surrounding residential communities.” In the NCP, it is recommended that the FAA continue with the planned implementation of the MAPUL-1 RNAV procedure and maintain support for the expansion of the RNAV program.

FAA Action: No Action Required.

Land Use Measures

The analysis of recommendations in Chapter 11 refers to a single land use measure described in Chapter 12 of the NCP (page 11-6, Options Required for Consideration by FAR Part 150). That recommendation is to update overlay zones and the requirements therein for Lee County.

5. Update Noise Overlay Zones

During the Noise Overlay Zone Land Development Code approval process (completed in 2000), the Lee County Commission directed the Lee County Port Authority to reevaluate the overlay zone in an Update to the FAR Part 150 study to be completed by 2006. The Commission recognized that quieter aircraft were being added to the air carrier and cargo fleet mix and felt that the update should occur to determine whether the extent of the overlay zone limits and associated controls should be maintained or modified

Proposed overlay zones are shown on Exhibit 12-2 and are for the year 2020. This is to address potential long range noise impacts and expected growth in airport operations (page 12-6). A summary of the land uses of the land uses for the four zones depicted on Exhibit 12-2 is on page 12-4. Zone B encompasses the DNL 60 dB noise contour. No new noise-sensitive land uses would be allowed. Overflights and notice of potential noise associated with the airport would apply to all development, new and existing. Land uses in Zone B compare to previous Zone 3, with the addition of public notification.

Due to the reduction in noise exposure since the last Part 150 study (approved in 1995), the zones and controls have been modified. Zones C and D (encompassing areas larger than Zone B), would include notification of potential noise and overflights. Notification will include reference to factual information about flight corridors, proposed long range airport development, and anticipated growth in operations at the airport for the 2020 timeframe (Zone C). Flight training notice would be provided for Zone D (page 12-9).

The LCPA will be proactive about publishing notification and preparing a noise notification brochure for distribution as described on page 12-10. It will provide facts about corridors and discourage noise sensitive development in the corridors (page 12-11, Exhibit 12-10). Also, LCPA will have a record of flight corridors used, via passive radar (Measure 3 in this ROA). LCPA proposes to update forecasts in five years per Lee Plan Policy 1.7.1 or sooner if events occur to significantly alter the contours (pages 12-12 and 12-13).

(NCP, pages 12-1 through 12-13; Exhibits 12-1, 12-2, 12-3, 12-4, 12-5, 12-6, 12-7, 12-8, 12-9, and 12-10; and Tables 12-1, 12-2, and 13-1)

FAA Action: Approved. This is within the authority of the local land use jurisdictions; the Federal government does not control local land use. Outside the DNL 65 dB noise contour, FAA as a matter of policy encourages local efforts to prevent new noncompatible development immediately abutting the DNL 65 dB contour and to provide a buffer for possible growth in noise contours beyond the forecast period.

These determinations are set forth in detail in a Record of Approval signed by the FAA on May 30, 2006. The Record of Approval, as well as other evaluation materials and the documents comprising the submittal, are available for review at the FAA office listed above and at the administrative office of the Lee County Port Authority. The Record of Approval also will be available on-line at http:/www.faa.gov/arp/environmental/14cfr150/index14.cfm.

Issued in Orlando, Florida on June 15, 2006.
Bart Vernace,
Acting Manager, Orlando, Airports District Office.

[FR Doc. 06-5634 Filed 6-22-06; 8:45 am]

BILLING CODE 4910-13-M